NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by January 30, 2019. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection. The regulations establish such a permit system to designate Antarctic Specially Protected Areas.

Application Details

1. Applicant Permit Application: 2019-013

Kim Bernard, 104 CEOAS Admin. Bldg., Oregon State University, Corvallis, OR, 97330.

Activity for Which Permit Is Requested

Introduce Non-Indigenous Species into Antarctica. The applicant, a researcher supported by NSF, would bring the diatom species, Fragilariopsis cylindrus, to Palmer Station for a six-month feeding study involving Antarctic krill. This species was originally harvested in Antarctic waters and was cultured at the University of Washington. Using the diatom culture, rather than culturing newly collected local diatoms, would allow the study to commence in a timely manner and significantly enhance the potential for a successful long-term feeding study. Aquarium tanks used in the feeding study would have filters attached to the out-flow that will trap the diatoms as they leave the tank and prevent them from entering the local system. The applicant would use in-line filter holders with Whatman GF/F filters. The filters would be checked daily to ensure they are functioning as needed and would be replaced as often as necessary. Once removed, the filters would be dried and disposed of, thereby preventing any contamination of local waters with the diatom culture.

Location

Palmer Station, Antarctic Peninsula.

Dates of Permitted Activities

04/12/2019-10/31/2019.

2. Applicant Permit Application: 2019-014

Michelle Shero, 266 Woods Hole Road, Woods Hole, MA 02540.

Activity for Which Permit Is Requested

Take, Harmful Interference, Import into USA. The applicant is requesting a permit in support of a study of the energy dynamics, foraging behaviors, and reproductive output of female Weddell seals (Leptonychotes weddellii) in Erebus Bay and Cape Colbeck, Antarctica. The applicant would evaluate endocrine profiles, body composition, and dive efforts of female Weddell seals across the year, to provide links with the probability of pregnancy and carrying the pregnancy to full-term. The applicant would develop non-invasive photogrammetric techniques using remotely piloted aircraft systems (RPAS) to estimate mass and energy dynamics of a much larger number of animals than would be possible via ground survey. To achieve project goals, a cohort of 25 animals in Erebus Bay or Cape Colbeck, Antarctica would undergo health assessments in both October-November and February-March each year (blood draws, morphometric measurements, satellite tagging, RPAS photogrammetry; 50 seals per year), while RPAS surveys will be conducted for the population. Dive recorders would also be deployed, and subsequently recovered during the following year (25 animals). Research activities would conducted as part of a larger assessment of Weddell seals in the Ross Sea MPA, led by the New Zealand Antarctic Program. The NZ program would be leading animal handling procedures and all instrumentation of the animals. The applicant would be joining the project as collaborators, primarily for the purpose of conducting physiological studies and RPAS surveys. Up to 500 crabeater seals (Lobodon carcinophagus) may by unintentionally disturbed during ground or RPAS surveys. The applicant would also salvage up to 12 Weddell seals, all ages and sexes, found dead and dies of natural causes.

Location

Erebus Bay and Cape Colbeck, Antarctica.

Dates of Permitted Activities

February 1, 2019-January 31, 2024.

Susanne H. Plimpton,
Reports Clearance Officer, National Science Foundation.

[FR Doc. 2018-28343 Filed 12-28-18; 8:45 am]

BILLING CODE 7555-01-P